DEPARTMENT OF ENERGY

Federal Energy Regulatory Commission

[EG12-43-000, EG12-53-000, EG12-54-000, et al.]

Notice of Effectiveness of Exempt Wholesale Generator or Foreign Utility Company Status

| Docket Nos.
Sherbino I Wind Farm LLC | EG12-43-000
Eagle Point Power Generation LLC | EG12-53-000
Cimarron Windpower II, LLC | EG12-54-000
Ironwood Windpower, LLC | EG12-55-000
NRG Solar Alpine LLC | EG12-56-000
Cayuga Operating Company, LLC | EG12-57-000
Somerset Operating Company, LLC | EG12-58-000
Copper Mountain Solar 2, LLC | EG12-59-000
Minok Wind, LLC | EG12-60-000
Senate Wind, LLC | EG12-61-000
Canadian Hills Wind, LLC | EG12-62-000
Moore Solar, Inc. | FC12-6-000
Sombra Solar, Inc. | FC12-7-000

Take notice that during the month of June 2012, the status of the above-captioned entities as Exempt Wholesale Generators or Foreign Utility Companies became effective by operation of the Commission's regulations. 18 CFR 366.7(a).

Dated: July 12, 2012.
Kimberly D. Bose,
Secretary.

.

[FR Doc. 2012-17658 Filed 7-19-12; 8:45 am]

BILLING CODE 6717-01-P